ENVIRONMENTAL PROTECTION AGENCY

40 CFR Part 52

[NH-041-7013a; A-1-FRL-8955-9]

Approval and Promulgation of Air Quality Implementation Plans; Revised Format for Materials Being Incorporated by Reference for New Hampshire

AGENCY: Environmental Protection Agency (EPA).

ACTION: Final rule; notice of administrative change.

SUMMARY: EPA is revising the format of its regulations for materials submitted by the State of New Hampshire that are incorporated by reference (IBR) into its State Implementation Plan (SIP). The regulations affected by this format change have all been previously submitted by New Hampshire and approved by EPA.

DATES: Effective Date: This rule is effective on September 30, 2009.

ADDRESSES: SIP materials which are incorporated by reference into 40 CFR part 52 are available for inspection at the Office of Ecosystem Protection, U.S. Environmental Protection Agency, EPA New England Regional Office, One Congress Street, Suite 1100, Boston, MA. EPA requests that if at all possible, you contact the contact listed in the FOR FURTHER INFORMATION CONTACT section to schedule your inspection. The Regional Office's official hours of business are Monday through Friday, 8:30 to 4:30, excluding legal holidays.

An electronic copy of the New Hampshire regulations we have approved for incorporation into the SIP are also available by accessing http://www.epa.gov/ne/topics/air/sips.html. A hard copy of the regulatory and source-specific portions of the compilation will also be maintained at the Air and Radiation Docket and Information Center, EPA West Building, Room 3334, 1301 Constitution Ave., NW., Washington, DC 20460 and the National Archives and Records Administration (NARA). If you wish to obtain materials from a docket in the EPA Headquarters Library, please call the Office of Air and Radiation (OAR) Docket/Telephone number (202) 566-1742. For information on the availability of this material at NARA, call (202) 741-6030, or go to: http://www.archives.gov/federal_register/code_of_federal_regulations/ibr_locations.html.

FOR FURTHER INFORMATION CONTACT: Donald O. Cooke, Air Quality Planning Unit, U.S. Environmental Protection Agency, EPA New England Regional Office, One Congress Street, Suite 1100 (CAQ), Boston, MA 02114-2023, telephone number (617) 918-1668, fax number (617) 918-0668, e-mail cooke.donald@epa.gov.

SUPPLEMENTARY INFORMATION: Throughout this document whenever “we,” “us,” or “our” is used, we mean EPA.

Organization of this document. The following outline is provided to aid in locating information in this preamble.

I. Change of IBR Format

A. Description of a SIP

B. How EPA Enforces the SIP

C. How the State and EPA Update the SIP

D. How EPA Compiles the SIP

E. How EPA Organizes the SIP Compilation

F. Where You Can Find a Copy of the SIP Compilation

G. The Format of the New Identification of Plan Section

H. When a SIP Revision Becomes Federally Enforceable

I. The Historical Record of SIP Revision Approvals

II. What EPA Is Doing in This Action

III. Good Cause Exemption

IV. Statutory and Executive Order Reviews

A. General Requirements

B. Submission to Congress and the Comptroller General

C. Petitions for Judicial Review

I. Change of IBR Format

This format revision will affect the “Identification of plan” section of 40 CFR part 52, as well as the format of the SIP materials that will be available for public inspection at the National Archives and Records Administration (NARA); the Air and Radiation Docket and Information Center located at EPA Headquarters in Washington, DC, and the EPA New England Regional Office.

A. Description of a SIP

Each state has a SIP containing the control measures and strategies used to attain and maintain the national ambient air quality standards (NAAQS) and achieve certain other Clean Air Act (Act) requirements (e.g., visibility requirements and prevention of significant deterioration). The SIP is extensive, containing such elements as air pollution control regulations, emission inventories, monitoring network descriptions, attainment demonstrations, and enforcement mechanisms.

B. How EPA Enforces the SIP

Each SIP revision submitted by New Hampshire must be adopted at the state level after undergoing reasonable notice and opportunity for public comment. SIPs submitted to EPA to attain or maintain the NAAQS must include enforceable emission limitations and other control measures, schedules and timetables for compliance.

EPA evaluates submitted SIPs to determine if they meet the Act's requirements. If a SIP meets the Act's requirements, EPA will approve the SIP. EPA's notice of approval is published in the Federal Register and the approval is then codified in the Code of Federal Regulations (CFR) at 40 CFR part 52. Once EPA approves a SIP, it is enforceable by EPA and citizens in Federal district court.

We do not reproduce in 40 CFR part 52 the full text of the New Hampshire regulations that we have approved; instead, we incorporate them by reference (“IBR”). We approve a given state regulation with a specific effective date and then refer the public to the location(s) of the full text version of the state regulation(s) should they want to know which measures are contained in a given SIP (see “I.F. Where You Can Find a Copy of the SIP Compilation”).

C. How the State and EPA Update the SIP

The SIP is a living document which the state can revise as necessary to address the unique air pollution problems in the state. Therefore, EPA from time to time must take action on SIP revisions containing new and/or revised regulations.

On May 22, 1997 (62 FR 27968), EPA announced revised procedures for incorporating by reference federally approved SIPs. The procedures announced included: (1) A new process for incorporating by reference material submitted by states into compilations and a process for updating those compilations on roughly an annual basis; (2) a revised mechanism for announcing EPA approval of revisions to an applicable SIP and updating both the compilations and the CFR; and (3) a revised format for the “Identification of plan” sections for each applicable subpart to reflect these revised IBR procedures.

D. How EPA Compiles the SIP

We have organized into a compilation the federally-approved regulations, source-specific requirements and nonregulatory provisions we have approved into the SIP. We maintain hard copies of the compilation in binders and we primarily update these binders on an annual basis.

E. How EPA Organizes the SIP Compilation

Each compilation contains three parts. Part one contains the state regulations, part two contains the source-specific requirements that have been approved as part of the SIP (if any), and part three contains nonregulatory provisions that we have approved. Each compilation contains a table of identifying information for each regulation, each source-specific requirement, and each nonregulatory provision. The state effective dates in the tables indicate the date of the most recent revision to a particular regulation. The table of identifying information in the compilation corresponds to the table of contents published in 40 CFR part 52 for the state. The EPA Regional Offices have the primary responsibility for ensuring accuracy and updating the compilations.

F. Where You Can Find a Copy of the SIP Compilation

EPA New England developed and will maintain a hard copy of the compilation for New Hampshire. An electronic copy of the New Hampshire regulations we have approved are available on the following Web site: http://www.epa.gov/ne/topics/air/sips.html. A hard copy of the regulatory and source-specific portions of the compilation will also be maintained at the Air and Radiation Docket and Information Center, EPA West Building, Room 3334, 1301 Constitution Ave., NW., Washington, DC 20460; and National Archives and Records Administration (NARA). If you wish to obtain materials from a docket in the EPA Headquarters Library, please call the Office of Air and Radiation (OAR) Docket/Telephone number (202) 566-1742. For information on the availability of this material at NARA, call (202) 741-6030, or go to: http://www.archives.gov/federal_register/code_of_federal_regulations/ibr_locations.html.

G. The Format of the New Identification of Plan Section

In order to better serve the public, EPA has revised the organization of the “Identification of plan” section in 40 CFR part 52 and included additional information to clarify the elements of the SIP.

The revised Identification of plan section for New Hampshire contains five subsections:

1. Purpose and scope (see 40 CFR 52.1520(a));

2. Incorporation by reference (see 40 CFR 52.1520(b));

3. EPA-approved regulations (see 40 CFR 52.1520(c));

4. EPA-approved source-specific requirements (see 40 CFR 52.1520(d)); and

5. EPA-approved nonregulatory provisions such as transportation control measures, statutory provisions, monitoring networks, etc. (see 40 CFR 52.1520(e)).

H. When a SIP Revision Becomes Federally Enforceable

All revisions to the applicable SIP are federally enforceable as of the effective date of EPA's approval of the respective revisions. In general, SIP revisions become effective 30 to 60 days after publication of EPA's SIP approval action in the Federal Register. In specific cases, a SIP revision action may become effective less than 30 days or greater than 60 days after the Federal Register publication date. In order to determine the effective date of EPA's approval for a specific New Hampshire SIP provision that is listed in paragraph 40 CFR 52.1520 (c), (d), or (e), consult the volume and page of the Federal Register cited in the “EPA approval date” column of 40 CFR 52.1520 for that particular provision.

I. The Historical Record of SIP Revision Approvals

To facilitate enforcement of previously approved SIP provisions and to provide a smooth transition to the new SIP processing system, we are retaining the original Identification of plan section (see 40 CFR 52.1535). This section previously appeared at 40 CFR 52.1520. After an initial two-year period, we will review our experience with the new table format and will decide whether or not to retain the original Identification of plan section (40 CFR 52.1535) for some further period.

II. What EPA Is Doing in This Action

Today's action constitutes a “housekeeping” exercise to reformat the codification of the EPA-approved New Hampshire SIP.

III. Good Cause Exemption

EPA has determined that today's action falls under the “good cause” exemption in section 553(b)(3)(B) of the Administrative Procedure Act (APA) which, upon a finding of “good cause,” authorizes agencies to dispense with public participation, and section 553(d)(3), which allows an agency to make a rule effective immediately (thereby avoiding the 30-day delayed effective date otherwise provided for in the APA). Today's action simply reformats the codification of provisions which are already in effect as a matter of law.

Under section 553 of the APA, an agency may find good cause where procedures are “impractical, unnecessary, or contrary to the public interest.” Public comment is “unnecessary” and “contrary to the public interest” since the codification only reflects existing law. Likewise, there is no purpose served by delaying the effective date of this action.

IV. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section above, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules is discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the Congressional Review Act if the agency makes a good cause finding that notice and public procedure is impracticable, unnecessary or contrary to the public interest. Today's action simply reformats the codification of provisions which are already in effect as a matter of law, 5 U.S.C. 808(2). As stated previously, EPA has made such a good cause finding, including the reasons therefore, and established an effective date of September 30, 2009. EPA will submit a report containing this rule and other required information to the U.S. Senate, the U.S. House of Representatives, and the Comptroller General of the United States prior to publication of the rule in the Federal Register. These corrections to the Identification of plan for New Hampshire is not a “major rule” as defined by 5 U.S.C. 804(2).

C. Petitions for Judicial Review

EPA has also determined that the provisions of section 307(b)(1) of the Clean Air Act pertaining to petitions for judicial review are not applicable to this action. Prior EPA rulemaking actions for each individual component of the New Hampshire SIP compilation had previously afforded interested parties the opportunity to file a petition for judicial review in the United States Court of Appeals for the appropriate circuit within 60 days of such rulemaking action. Thus, EPA sees no need to reopen the 60-day period for filing such petitions for judicial review for this reorganization of the “Identification of plan” section of 40 CFR 52.1520 for New Hampshire.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 2, 2009.
Ira W. Leighton,
Acting Regional Administrator, EPA New England.

Part 52 of chapter I, title 40, Code of Federal Regulations, is amended as follows:

PART 52—[AMENDED]

1. The authority for citation for part 52 continues to read as follows:

Authority: 42 U.S.C. 7401 et seq.

Subpart EE—New Hampshire

§ 52.1520 [Redesignated as § 52.1535]

2. Section 52.1520 is redesignated as § 52.1535 and the section heading and paragraph (a) are revised to read as follows:

§ 52.1535 Original identification of plan section.

(a) This section identifies the original “Air Implementation Plan for the State of New Hampshire” and all revisions submitted by New Hampshire that were federally approved prior to August 18, 2009.

* * * * *

3. A new § 52.1520 is added to read as follows:

§ 52.1520 Identification of plan.

(a) Purpose and scope. This section sets forth the applicable State Implementation Plan for New Hampshire under section 110 of the Clean Air Act, 42 U.S.C. 7410 and 40 CFR part 51 to meet national ambient air quality standards or other requirements under the Clean Air Act.

(b) Incorporation by reference. (1) Material listed in paragraphs (c) and (d) of this section with an EPA approval date prior to August 18, 2009, was approved for incorporation by reference by the Director of the Federal Register in accordance with 5 U.S.C. 552(a) and 1 CFR part 51. Material is incorporated as submitted by the state to EPA, and notice of any change in the material will be published in the Federal Register. Entries for paragraphs (c) and (d) of this section with EPA approval dates after August 18, 2009, will be incorporated by reference in the next update to the SIP compilation.

(2) EPA Region 1 certifies that the rules/regulations provided by EPA in the SIP compilation at the addresses in paragraph (b)(3) of this section are an exact duplicate of the officially promulgated State rules/regulations which have been approved as part of the State Implementation Plan as of August 18, 2009.

(3) Copies of the materials incorporated by reference may be inspected at the Environmental Protection Agency, New England Regional Office, One Congress Street, Suite 1100, Boston, MA 02114-2023; Air and Radiation Docket and Information Center, EPA West Building, 1301 Constitution Ave., NW., Washington, DC 20460; and the National Archives and Records Administration (NARA). If you wish to obtain materials from the EPA Regional Office, please call (617) 918-1668; for materials from a docket in the EPA Headquarters Library, please call the Office of Air and Radiation (OAR) Docket at (202) 566-1742. For information on the availability of this material at NARA, call (202) 741-6030, or go to: http://www.archives.gov/federal_register/code_of_federal_regulations/ibr_locations.html.

(c) EPA approved regulations.

EPA-Approved New Hampshire Regulations
State citation | Title/subject | State effective date | EPA approval date¹ | Explanations
Env-A 100 | Organizational Rules: Definitions | 12/24/1990 | 8/14/1992, 57 FR 36603 | Sections Env-A 101.21; .27; .33; .51; .53; .58; .63; .98; and Parts Env-A 102 and 103 are not part of the approved SIP.
Env-A 200 | Procedural Rules | 7/23/2001 | 10/28/2002, 67 FR 65710 | Parts Env-A 206; 208; and Sections Env-A 209.01 through 209.04 are not part of the approved SIP.
Env-A 300 | Ambient Air Quality Standards | 4/21/1989 | 8/19/1994, 59 FR 42766 | Part Env-A 304 is not part of the approved SIP.
Env-A 400 | Sulfur Content Limits in Fuels | 12/24/1990 | 8/14/1992, 57 FR 36603 | Section Env-A 405.05 (c) and (d); and Part Env-A 406 are not part of the SIP.
Env-A 600 | Statewide Permit System | 7/23/2001 | 10/28/2002, 67 FR 65710 | Sections Env-A 603.02(p), 603.03(f) and 603.03(g) are not part of the SIP. Parts Env-A 615 through 621 are not part of the SIP. Sections Env-A 622.01(a)(2)(a) and 622.01(a)(2)(b); 622.03; 622.04(a) through 622.04(c); 622.05; 622.07 and 623.02 are not part of the SIP.
Env-A 700 | Permit Fee System | 12/24/1990 | 8/14/1992, 57 FR 36603 | Approved Parts Env-A 701 through 705.
Env-A 800 | Testing and Monitoring Procedures | 8/21/1995 | 3/10/1998, 63 FR 11600 | Approved Parts Env-A 801 through 807.
Env-A 900 | Owner or Operator Obligations | 8/21/1995 | 3/10/1998, 63 FR 11600 | Approved Sections Env-A 901 through 903.
Env-A 1000 | Prevention, Abatement, and Control of Open Source Air Pollution | 5/19/1989 | 8/19/1994, 59 FR 42766 | Approved Part Env-A 1001.
Env-A 1200 | Prevention, Abatement, and Control of Stationary Source Air Pollution | 8/21/1995 | 7/23/2002, 67 FR 48033 | Approved Parts Env-A 1201 through 1208; and 1211. Approval of 1201.05 shall not be construed to supersede New Source Performance Standards; National Emission Standards for Hazardous Air Pollutants; and the regulations controlling emissions from major new or modified stationary sources in attainment and non-attainment areas.
Env-A 1500 | Conformity of General Federal Actions | 4/19/1996 | 8/16/1999, 64 FR 44417 | Approved Part Env-A 1502.
Env-A 3200 | NOx Budget Trading Program | 7/27/1998 | 11/14/2000, 65 FR 68078 | Approved Parts Env-A 3201 through 3218.
Env-A 3600 | National Low Emission Vehicle (National LEV) Program | 7/21/1999 | 3/9/2000, 65 FR 12476 | Approved Parts Env-A 3601 through 3603
NHCAR, Part Saf-C 3221A | Emission Amendments to Official Motor Vehicle Inspection Requirements. | 11/17/1998 | 1/10/2001, 66 FR 1868 | Part Saf-C 3221A “Emission Amendments to Official Motor Vehicle Inspection Requirements” adopted on November 17, 1998.
NHCAR, Part Saf-C 5800 | Roadside Diesel Opacity Inspection Program Rules | 11/17/1998 | 1/10/2001, 66 FR 1868 | Part Saf-C 5800 “Roadside Diesel Opacity Inspection Program Rules” adopted on November 17, 1998.
¹ In order to determine the EPA effective date for a specific provision listed in this table, consult the Federal Register notice cited in this column for the particular provision.

(d) EPA-approved State Source specific requirements.

EPA-Approved New Hampshire Source Specific Requirements
Name of source | Permit No. | State effective date | EPA approval date ² | Additional explanations/§ 52.1535 citation
The James River—Berlin/Gorham, Inc. Berlin, NH |  | 5/2/1984 | 9/27/1984, 49 FR 38104 | See 52.1535(c)(33). Administrative order issued May 2, 1984 to the James River Corporation.
Operating limits for boilers at Dartmouth College | Permit Number PO-B-1501, condition 5 | 1/6/1986 | 2/2/1987, 52 FR 3117 | See 52.1535(c)(35).
Operating limits for boilers at Dartmouth College | Permit Number PO-B-1502, condition 5 | 1/6/1986 | 2/2/1987, 52 FR 3117 | See 52.1535(c)(35).
Operating limits for boilers at Dartmouth College | Permit No. PO-B-1503, condition 5 | 1/6/1986 | 2/2/1987, 52 FR 3117 | See 52.1535(c)(35).
Operating limits for boilers at Dartmouth College | Temporary Permit TP-B-150, condition 2, 3 and 4 | 1/6/1986 | 2/2/1987, 52 FR 3117 | See 52.1535(c)(35).
The James River Corporation, Groveton, NH | Permit Number PO-B-1550, Conditions 5B, 5C, and 5D | 9/6/1985 | 12/14/1987, 52 FR 47392 | See 52.1535(c)(38). The air permit conditions limit sulfur-in-fuel content to 2.2% sulfur by weight at the James River Corporation, Groveton, NH.
The James River Corporation, Groveton, NH | Permit Number PO-B-213, Conditions 2 and 5A | 9/6/1985 | 12/14/1987, 52 FR 47392 | See 52.1535(c)(38). The air permit conditions limit sulfur-in-fuel content to 2.2% sulfur by weight at the James River Corporation, Groveton, NH.
The James River Corporation, Groveton, NH | Permit No. PO-B-214, Conditions 2 and 5A | 9/6/1985 | 12/14/1987, 52 FR 47392 | See 52.1535(c)(38). The air permit conditions limit sulfur-in-fuel content to 2.2% sulfur by weight at the James River Corporation, Groveton, NH.
The James River Corporation, Groveton, NH | Permit No. PO-B-215, Conditions 2 and 5A | 9/6/1985 | 12/14/1987, 52 FR 47392 | See 52.1535(c)(38). The air permit conditions limit sulfur-in-fuel content to 2.2% sulfur by weight at the James River Corporation, Groveton, NH.
The James River Corporation, Groveton, NH | Permit No. PO-BP-2240, Condition 5B | 9/6/1985 | 12/14/1987, 52 FR 47392 | See 52.1535(c)(38). The air permit conditions limit sulfur-in-fuel content to 2.2% sulfur by weight at the James River Corporation, Groveton, NH.
Source specific NOX RACT order for Groveton Paperboard Corp., Groveton, NH | Order ARD-95-001 | 5/10/1995 | 4/9/1997, 62 FR 17087 | See 52.1535(c)(50).
Source specific NOX RACT order for Plymouth Cogeneration Ltd. Partnership, Plymouth, NH | Order ARD-95-002 | 9/12/1995 | 4/9/1997, 62 FR 17087 | See 52.1535(c)(50).
Source specific NOX RACT order for Waterville Valley Ski Area Ltd., Waterville Valley, NH | Order ARD-95-003 | 9/19/1995 | 4/9/1997, 62 FR 17087 | See 52.1535(c)(50).
VOC RACT for L.W. Packard and Company, Inc. Ashland, NH | Order ARD-94-001 | 5/5/1995 | 3/10/1998, 63 FR 11600 | See 52.1535(c)(51).
VOC RACT for Kalwall Corporation, Manchester, NH | Order ARD-95-010 | 9/10/1996 | 3/10/1998, 63 FR 11600 | See 52.1535(c)(51).
VOC RACT for Textile Tapes Corporation, Gonic, NH | Order ARD-96-001 | 10/4/1996 | 3/10/1998, 63 FR 11600 | See 52.1535(c)(51).
Source specific NOX RACT order for Public Service of New Hampshire, Bow, NH | Order ARD-97-001 | 4/14/1997 | 5/13/1998, 63 FR 26455 | See 52.1535(c)(54).
Source specific NOX RACT order for Hampshire Chemical Corporation, Nashua, NH | Order ARD-95-011 | 5/6/1997 | 5/13/1998, 63 FR 26455 | See 52.1535(c)(54).
Source specific NOX RACT order for Crown Vantage, Berlin, NH | Order ARD-97-003 | 9/24/1997 | 5/13/1998, 63 FR 26455 | See 52.1535(c)(54).
Source-specific NOX RACT order and discrete emission reduction protocols for Public Service of New Hampshire | Order ARD-98-001 | 7/17/1998 | 11/14/2000, 65 FR 68078 | See 52.1535(c)(64).
VOC RACT for Anheuser-Busch, Merrimack, NH | Order ARD-00-001 | 4/15/2002 | 7/23/2002, 67 FR 48033 | See 52.1535(c)(68).
² In order to determine the EPA effective date for a specific provision listed in this table, consult the Federal Register notice cited in this column for the particular provision.

(e) Nonregulatory.

New Hampshire NonRegulatory
Name of nonregulatory SIP provision | Applicable geographic or nonattainment area | State submittal date/effective date | EPA approved date ³ | Explanations
“State of New Hampshire Implementation Plan” | Statewide | 1/27/1972 | 5/31/1972, 37 FR 10842 | The plan was officially submitted on January 27, 1972.
Miscellaneous non-regulatory additions to the plan correcting minor deficiencies | Statewide | 2/23/1972 | 7/27/1972, 37 FR 15080 | See 52.1535(c)(1).
Non-regulatory provisions for retention and availability of air quality data | Statewide | 3/23/1972 | 7/27/1972, 37 FR 15080 | See 52.1535(c)(2).
Attainment dates of national primary and secondary air quality standards | Statewide | 8/8/1972 | 9/22/1972, 37 FR 19806 | See 52.1535(c)(3).
Compliance schedules | Statewide | 2/14/1973 | 6/20/1973, 38 FR 16144 | See 52.1535(c)(5).
Compliance schedules | Statewide | 3/22/1973 | 6/20/1973, 38 FR 16144 | See 52.1535(c)(6).
Revision exempting steam locomotives from the plan | Statewide | 4/3/1973 | 12/14/1973, 38 FR 34476 | See 52.1535(c)(7).
AQMA identification material | Statewide | 5/20/1974 | 6/2/1975, 40 FR 23746 | See 52.1535(c)(9).
Attainment plans to meet the requirements of Part D for carbon monoxide for Metropolitan Manchester and ozone for AQCR 121, programs for the review of construction and operation of new and modified major stationary sources of pollution in both attainment and non-attainment areas and certain miscellaneous provisions | Statewide | 5/29/1979 | 4/11/1980, 45 FR 24869 | See 52.1535(c)(12).
November 6, 1979 letter from New Hampshire Assistant Attorney General | Statewide | 11/6/1979 | 4/11/1980, 45 FR 24869 | See 52.1535(c)(12).
March 17, 1980 letter addressing external emission offsets | Statewide | 3/17/1980 | 4/11/1980, 45 FR 24869 | See 52.1535(c)(12).
Attainment plans to meet the requirements of Part D for total suspended particulates and sulfur dioxide in Berlin, NH | Areas designated non-attainment for one or more pollutants | 9/19/1979 | 6/23/1980, 45 FR 41942 | See 52.1535(c)(13).
A plan to provide comprehensive public participation and an analysis of the effects of the New Hampshire 1979 SIP revisions | Statewide | 2/28/1980 | 9/9/1980, 45 FR 59313 | See 52.1535(c)(15).
A comprehensive air quality monitoring plan, intended to meet requirements of 40 CFR Part 58 | Statewide | 1/30/80 | 12/18/1980, 45 FR 83227 | See 52.1535(c)(17).
A plan to attain and maintain the National Ambient Air Quality Standard for lead and to amend the state's air quality standards | Statewide | 4/15/1980 | 7/15/1981, 46 FR 36699 | See 52.1535(c)(18).
A letter further explaining the state procedures for review of new major sources of lead emissions and confirming the use of reference methods | Statewide | 12/9/1980 | 7/15/1981, 46 FR 36699 | See 52.1535(c)(18).
Revisions to meet the requirements of Part D and certain other sections of the Clean Air Act, as amended, for attaining carbon monoxide standards in the City of Manchester | City of Manchester | 1/12/1981 | 1/7/1982, 47 FR 763 | See 52.1535(c)(19). These revisions supplement the 1979 CO attainment plan.
Revision to the January 12, 1981 CO Attainment Plan for Manchester, NH | City of Manchester | 2/18/1981 | 1/7/1982, 47 FR 763 | See 52.1535(c)(19).
Carbon monoxide attainment plan revisions for the City of Manchester which meet the requirements of Part D of the Act for 1982 SIP revisions | City of Manchester | 10/5/1982 | 6/27/1983, 48 FR 29479 | See 52.1535 (c)(23).
Revision to the October 5, 1982 CO Attainment Plan for Manchester, NH | City of Manchester | 12/20/1982 | 6/27/1983, 48 FR 29479 | See 52.1535(c)(23).
The TSP Plan to attain primary standards in Berlin, New Hampshire | Berlin, NH | 5/9/1984 | 9/27/1984, 49 FR 38104 | See 52.1535(c)(33).
Letter from the New Hampshire Air Resources Commission submitting revisions to the SIP | Statewide | 4/26/1985 | 9/17/1987, 52 FR 35081 | See 52.1535(c)(37).
Letter interpreting NH's regulation for Continuous Emission Monitoring Systems | Statewide | 1/20/1986 | 9/17/1987, 52 FR 35081 | See 52.1535(c)(37).
NH Letter of intent to implement applicable emission limits required by EPA's New Source Performance Standard (NSPS) | Statewide | 5/12/1987 | 9/17/1987, 52 FR 35081 | See 52.1535(c)(37).
Letter submitting a revision to the CO Attainment Plan for the City of Nashua, NH | Nashua and 11 surrounding towns | 9/12/1985 | 8/25/1988, 53 FR 32391 | See 52.1535(c)(39). Attainment plans for carbon monoxide for the City of Nashua including an extension of the attainment date to December 31, 1990.
Narrative submittals, including an attainment demonstration for carbon monoxide for the City of Nashua | Nashua and 11 surrounding towns | 2/26/1985 | 8/25/1988, 53 FR 32391 | See 52.1535(c)(39).
Letter identifying extensions to the Nashua intersection-specific measures (Build I) | Nashua and 11 surrounding area | 12/3/1985 | 8/25/1988, 53 FR 32391 | See 52.1535(c)(39).
Letter submitting final motor vehicle emissions inspection (I&M) program for the Nashua, NH area | Nashua and 11 surrounding towns | 10/7/1986 | 8/25/1988, 53 FR 32391 | See 52.1535(c)(39).
Letter from Governor John H. Sununu to Michael R. Deland committing to take legislative measures to convert the Inspection/Maintenance program in the Nashua area to the use of computerized emission analyzers in the event that the program is found to not be achieving the necessary emission reductions | Nashua and 11 surrounding towns | 3/6/1987 | 8/25/1988, 53 FR 32391 | See 52.1535(c)(39).
Letter from NH DES, Air Resources Division providing additional information on Nashua intersection-specific traffic flow improvements in Nashua, NH CO Attainment Plan | Nashua and 11 surrounding towns | 5/12/1987 | 8/25/1988, 53 FR 32391 | See 52.1535(c)(39).
Letter from NH DES, Air Resources Division submitting additions to the Nashua, NH CO Attainment Plan | Nashua and 11 surrounding towns | 10/15/1987 | 8/25/1988, 53 FR 32391 | See 52.1535(c)(39).
Letter from the New Hampshire Air Resources Division dated July 6, 1989 submitting revisions to the NH SIP | Statewide | 7/6/1989 | 8/19/1994, 59 FR 42766 | See 52.1535(c)(40).
Letter from the New Hampshire Air Resources Division dated February 12, 1991 submitting a revision to the NH SIP | Statewide | 2/12/1991 | 8/14/1991, 56 FR 40252 | See 52.1535(c)(41).
Nonregulatory portions of the State submittal | Statewide | 2/12/1991 | 8/14/1991, 56 FR 40252 | See 52.1535(c)(41).
Letter from the New Hampshire Air Resources Division dated November 21, 1989 submitting a revision to the NH SIP | Statewide | 11/21/1989 | 6/13/1991, 56 FR 27197 | See 52.1535(c)(43).
Letter from Robert W. Varney, Commissioner of the Department of Environmental Services of New Hampshire, to John B. Hammond, Acting Director of the New Hampshire Office of Legislative Services, dated November 15, 1989, adopting final rules | Statewide | 11/21/1989 | 6/13/1991, 56 FR 27197 | See 52.1535(c)(43).
Letter from the New Hampshire Air Resources Division dated September 12, 1990 submitting a revision to the NH SIP that withdraws nine source-specific operating permits incorporated by reference at 40 CFR 52.1535(c)(21), (c)(25) and (c)(32) | Statewide | 9/12/1990 | 12/12/1991, 56 FR 64703 | See 52.1535(c)(44).
Letter from the New Hampshire Air Resources Division dated July 2, 1991 submitting documentation of a public hearing | Statewide | 7/2/1991 | 12/12/1991, 56 FR 64703 | See 52.1535(c)(44).
Letter from the New Hampshire Air Resources Division dated February 12, 1991 submitting revisions to the NH SIP | Statewide | 2/12/1991 | 8/14/1992, 57 FR 36603 | See 52.1535(c)(45).
Letter from the New Hampshire Air Resources Division dated May 7, 1991 withdrawing certain portion of the February 12, 1991 SIP submittal | Statewide | 5/7/1991 | 8/14/1992, 57 FR 36603 | See 52.1535(c)(45).
Letter from the New Hampshire Air Resources Division dated August 20, 1991 withdrawing certain portion of the February 12, 1991 SIP submittal | Statewide | 8/20/1991 | 8/14/1992, 57 FR 36603 | See 52.1535(c)(45).
Letter from the New Hampshire Air Resources Division dated August 26, 1991 withdrawing certain portion of the February 12, 1991 SIP submittal | Statewide | 8/26/1991 | 8/14/1992, 57 FR 36603 | See 52.1535(c)(45).
Letter from the New Hampshire Air Resources Division dated March 6, 1992 withdrawing certain portion of the February 12, 1991 SIP submittal | Statewide | 3/6/1992 | 8/14/1992, 57 FR 36603 | See 52.1535(c)(45).
Letter from the New Hampshire Air Resources Division dated May 6, 1992 withdrawing certain portion of the February 12, 1991 SIP submittal | Statewide | 5/6/1992 | 8/14/1992, 57 FR 36603 | See 52.1535(c)(45).
Letter from the New Hampshire Air Resources Division dated May 15, 1992 submitting a revision to the NH SIP | Statewide | 5/15/1992 | 1/19/1993, 58 FR 4902 | See 52.1535(c)(46). Revisions to the SIP consisting of amendments to Emission Control Methods for Cutback and Emulsified Asphalt.
Letter from the New Hampshire Air Resources Division dated May 15, 1992 submitting a revision to the NH SIP | Statewide | 5/15/1992 | 5/25/1993, 58 FR 29973 | See 52.1535(c)(47).
Letter from the New Hampshire Air Resources Division dated December 21, 1992, submitting revisions to the NH SIP | Statewide | 12/21/1992 | 4/9/1997, 62 FR 17087 | See 52.1535(c)(49).
Letter from the New Hampshire Air Resources Division dated June 17, 1994 submitting revisions to the NH SIP | Statewide | 6/17/1994 | 4/9/1997, 62 FR 17087 | See 52.1535(c)(49).
Letter from the New Hampshire Air Resources Division dated July 7, 1995 submitting revisions to the NH SIP | Statewide | 7/7/1995 | 4/9/1997, 62 FR 17087 | See 52.1535(c)(50).
Letter from the New Hampshire Air Resources Division dated September 18, 1995 submitting revisions to the NH SIP | Statewide | 9/18/1995 | 4/9/1997, 62 FR 17087 | See 52.1535(c)(50).
Letter from the New Hampshire Air Resources Division dated October 18, 1995, submitting revisions to the NH SIP | Statewide | 10/18/1995 | 4/9/1997, 62 FR 17087 | See 52.1535(c)(50).
Letter from the New Hampshire Air Resources Division dated December 9, 1996 submitting revisions to the NH SIP | Gonic, NH | 12/9/1996 | 3/10/1998, 63 FR 11600 | See 52.1535(c)(51).
Letter from the New Hampshire Air Resources Division dated June 28, 1996 submitting revisions to the NH SIP | Statewide | 6/28/1996 | 3/10/1998, 63 FR 11600 | See 52.1535(c)(51).
Letter from the New Hampshire Air Resources Division dated October 24, 1996 submitting revisions to the NH SIP | Manchester, NH | 10/24/1996 | 3/10/1998, 63 FR 11600 | See 52.1535(c)(51).
Letter from the New Hampshire Air Resources Division dated July 10, 1995 submitting revisions to the NH SIP | Statewide | 7/10/1995 | 3/10/1998, 63 FR 11600 | See 52.1535(c)(51).
Letter from the New Hampshire Air Resources Division dated December 21, 1992 submitting revisions to the NH SIP | Statewide | 12/21/1992 | 3/10/1998, 63 FR 11600 | See 52.1535(c)(51).
Letter dated November 21, 1997 withdrawing Env-A 1204.06 from the SIP submittal | Statewide | 11/21/1997 | 3/10/1998, 63 FR 11600 | See 52.1535(c)(51).
NH-DES letter dated December 13, 1994, and signed by Thomas M. Noel, Acting Director, NH DES | Statewide | 12/13/1994 | 10/27/1997, 62 FR 55521 | See 52.1535(c)(52).
State of New Hampshire Photochemical Assessment Monitoring Stations—Network Plan—Network Overview | Statewide | 12/13/1994 | 10/27/1997, 62 FR 55521 | See 52.1535(c)(52).
Letter from the New Hampshire Air Resources Division dated August 29, 1996 submitting a revision to the NH SIP | Portsmouth-Dover-Rochester serious ozone nonattainment area, and the NH portion of the Boston-Lawrence-Worcester serious ozone nonattainment area | 8/29/1996 | 10/27/1997, 62 FR 55521 | See 52.1533. Revisions to the SIP for the purpose of satisfying the rate-of-progress requirement of section 182(b) and the contingency measure requirement of section 172(c)(9) of the Clean Air Act.
Letter from the New Hampshire Air Resources Division dated April 14, 1997 submitting revisions to the NH SIP | Statewide | 4/14/1997 | 5/13/1998, 63 FR 26455 | See 52.1535(c)(54).
Letter from the New Hampshire Air Resources Division dated May 6, 1997 submitting revisions to the NH SIP | Nashua, NH | 5/6/1997 | 5/13/1998, 63 FR 26455 | See 52.1535(c)(54).
Letter from the New Hampshire Air Resources Division dated September 24, 1997 submitting revisions to the NH SIP | Statewide | 9/24/1997 | 5/13/1998, 63 FR 26455 | See 52.1535(c)(54).
Letter from the New Hampshire Air Resources Division dated July 27, 1998 submitting a revision to the NH SIP | Statewide | 7/27/1998 | 11/14/2000, 65 FR 68078 | See 52.1535(c)(57).
Letter from the New Hampshire Air Resources Division dated November 24, 1992 submitting a revision to the New Hampshire State Implementation Plan | Statewide | 11/24/1992 | 12/7/1998, 63 FR 67405 | See 52.1535(c)(58).
New Hampshire Department of Environmental Services “Stage II Equivalency Demonstration,” dated November 1992 | Statewide | 11/24/1992 | 12/7/1998, 63 FR 67405 | See 52.1535(c)(58).
Nonregulatory portions of the submittal | Statewide | 7/2/1993 | 12/7/1998, 63 FR 67405 | See 52.1535(c)(58). NH's Gasoline Vapor Recovery Testing Procedures and Inspection Manual.
Letter from the New Hampshire Air Resources Division dated November 20, 1998 submitting a revision to the NH SIP | Statewide | 11/20/1998 | 1/10/2001, 66 FR 1868 | See 52.1535(c)(59).
Letter from the New Hampshire Air Resources Division dated September 4, 1998 submitting a revision to the NH SIP | Statewide | 9/4/1998 | 1/10/2001, 66 FR 1868 | See 52.1535(c)(59).
Document entitled “Alternative New Hampshire Motor Vehicle Inspection/Maintenance State Implementation Plan Revision” dated September 4, 1998 | Statewide | 9/4/1998 | 1/10/2001, 66 FR 1868 | See 52.1535(c)(59).
Letter from the New Hampshire Air Resources Division dated August 6, 2001 submitting a revision to the NH SIP | Statewide | 8/9/2001 | 10/28/2002, 67 FR 65710 | See 52.1535(c)(60).
Letter from the New Hampshire Air Resources Division dated April 26, 1995 submitting a revision to the NH SIP | Statewide | 4/26/1995 | 10/28/2002, 67 FR 65710 | See 52.1535(c)(60).
Nonregulatory portions of the State submittal. | Statewide | 4/26/1995 | 10/28/2002, 67 FR 65710 | See 52.1535(c)(60).
Document entitled “New Hampshire Stage II Comparability Analysis,” prepared by the New Hampshire Department of Environmental Services, dated July 1, 1998 | Statewide | 7/9/1998 | 9/29/1999, 64 FR 52434. | See 52.1535(c)(61).
Letter from the New Hampshire Department of Environmental Services dated June 7, 1994 submitting a revision to the NH SIP | Statewide | 6/7/1994 | 9/29/1999, 64 FR 52434. | See 52.1535(c)(62).
Document entitled “Clean Fuel Fleet Equivalency Demonstration,” prepared by the New Hampshire Department of Environmental Services, dated May, 1994 | Statewide | 6/7/1994 | 9/29/1999, 64 FR 52434. | See 52.1535(c)(62).
Letter from the New Hampshire Department of Environmental Services dated July 10, 1996 submitting a revision to the NH SIP | Statewide | 7/10/1996 | 8/16/1999, 64 FR 44417 | See 52.1535(c)(63).
Letter from the New Hampshire Air Resources Division dated July 17, 1998 submitting Final RACT Order 98-001 as a revision to the NH SIP | Statewide | 7/17/1998 | 11/14/2000, 65 FR 68078 | See 52.1535(c)(64).
Letter from the New Hampshire Department of Environmental Services dated August 16, 1999 submitting the Low Emission Vehicle program as a revision to the NH SIP | Statewide | 8/16/1999 | 3/9/2000, 65 FR 12476 | See 52.1535(c)(65).
Letter from the New Hampshire Air Resources Division dated July 29, 1993 submitting a revision to the New Hampshire State Implementation Plan | Statewide | 7/29/1993 | 7/27/2001, 66 FR 39100 | See 52.1535(c)(66).
Letter from the New Hampshire Air Resources Division dated July 2, 1999 submitting a revision to the New Hampshire State Implementation Plan | Statewide | 7/2/1999 | 7/27/2001, 66 FR 39100 | See 52.1535(c)(66).
Letter from the New Hampshire Department of Environmental Services dated September 11, 1998 stating a negative declaration for the aerospace coating operations Control Techniques Guideline category | Statewide | 9/11/1998 | 7/10/2000, 65 FR 42290 | See 52.1535(c)(67).
Letter from the DES, dated April 15, 2002, submitting revised Anheuser-Busch order to EPA as a SIP revision and withdrawing previous submittal for this facility dated June 20, 2000 | Merrimack, NH | 4/15/2002 | 7/23/2002, 67 FR 48033 | See 52.1535(c)(68).
Letter from the DES, dated March 22, 2002, containing information on New Filcas of America | Nashua, NH | 3/22/2002 | 7/23/2002, 67 FR 48033 | See 52.1535(c)(68).
³ In order to determine the EPA effective date for a specific provision listed in this table, consult the Federal Register notice cited in this column for the particular provision.

[FR Doc. E9-23472 Filed 9-29-09; 8:45 am]

BILLING CODE 6560-50-P